DEPARTMENT OF THE INTERIOR

Fish and Wildlife Service

Information Collection Renewal Sent to the Office of Management and Budget (OMB) for Approval Under the Paperwork Reduction Act; 1018-0010; Mourning Dove Call Count Survey

AGENCY: Fish and Wildlife Service, Interior.

ACTION: Notice; request for comments.

SUMMARY: We (Fish and Wildlife Service) have sent a request to OMB to renew approval for our information collection associated with the mourning dove call count survey. The current OMB control number for this information collection is 1018-0010, which expires October 31, 2005. We have requested that OMB renew approval of this information collection for a 3-year term.

DATES: You must submit comments on or before November 30, 2005.

ADDRESSES: Send your comments and suggestions on this information collection renewal to the Desk Officer for the Department of the Interior at OMB-OIRA at (202) 395-6566 (fax) or OIRA_DOCKET@OMB.eop.gov (e-mail). Please provide a copy of your comments to Hope Grey, Information Collection Clearance Officer, Fish and Wildlife Service, MS 222-ARLSQ, 4401 North Fairfax Drive, Arlington, VA 22203 (mail); (703) 358-2269 (fax); or hope_grey@fws.gov (e-mail).

FOR FURTHER INFORMATION CONTACT: To request a copy of the information collection requirements, explanatory information, or related form, contact Hope Grey, Information Collection Clearance Officer, at the above addresses or by telephone at (703) 358-2482.

SUPPLEMENTARY INFORMATION: OMB regulations at 5 CFR 1320, which implement the provisions of the Paperwork Reduction Act of 1995 (44 U.S.C. 3501 et seq.), require that interested members of the public and affected agencies have an opportunity to comment on information collection and recordkeeping activities (see 5 CFR 1320.8(d)). Federal agencies may not conduct or sponsor and a person is not required to respond to a collection of information unless it displays a currently valid OMB control number.

On May 12, 2005, we published in the Federal Register (70 FR 25108) a 60-day notice of our intent to request renewal of this information collection authority from OMB. In that notice, we solicited public comments for 60 days ending July 11, 2005. We did not receive any comments regarding this notice.

The Migratory Bird Treaty Act (16 U.S.C. 703-712) and Fish and Wildlife Act of 1956 (16 U.S.C. 742a-754j-2) designate the Department of the Interior as the key agency responsible for (1) wise management of migratory bird populations frequenting the United States and (2) setting hunting regulations that allow for the well-being of migratory bird populations. These responsibilities dictate that we gather accurate data on various characteristics of migratory bird populations.

The Mourning Dove Call Count Survey is an essential part of the migratory bird management program. The survey is a cooperative effort between the Service and State wildlife agencies, as well as local and tribal biologists. Each spring, State, Service, local, and tribal biologists conduct the survey to provide the necessary data to determine the population status of the mourning dove. The Service and the States use the survey results to (1) develop annual regulations for hunting mourning doves, (2) plan and evaluate dove management programs, and (3) provide specific information necessary for dove research. If this survey were not conducted, we would not be able to determine the population status of mourning doves prior to setting regulations.

Title of Collection: Mourning Dove Call Count Survey.

OMB Control Number: 1018-0010.

Service Form Number: 3-159.

Frequency of Collection: Annually.

Description of Respondents: State, local, tribal, and Federal employees.

Total Annual Responses: 1,062

Total Annual Burden Hours: 2,796.6 hours. We believe 80 percent of the respondents will enter data electronically, with an average reporting burden of 2.67 hours per respondent. For all other respondents, we estimate the reporting burden to be 2.5 hours per respondent.

We invite your comments concerning this information collection on: (1) Whether or not the collection of information is necessary for the proper performance of our migratory bird management functions, including whether or not the information will have practical utility; (2) the accuracy of the agency's estimate of burden, (3) ways to enhance the quality, utility and clarity of the information to be collected; and (4) ways to minimize the burden of the collection of information on those who are to respond. The information collections in this program are part of a system of records covered by the Privacy Act (5 U.S.C. 552a).

Dated: October 5, 2005.
Hope Grey,
Information Collection Clearance Officer, Fish and Wildlife Service.

[FR Doc. 05-21631 Filed 10-28-05; 8:45 am]

BILLING CODE 4310-55-P